ENVIRONMENTAL PROTECTION AGENCY

40 CFR Part 300

[EPA-HQ-SFUND-2002-0001; FRL-9981-51—Region 4]

National Oil and Hazardous Substances Pollution Contingency Plan; National Priorities List: Deletion of the Reasor Chemical Company Superfund Site

AGENCY: Environmental Protection Agency (EPA).

ACTION: Proposed rule; notice of intent.

SUMMARY: The Environmental Protection Agency (EPA) Region 4 is issuing a Notice of Intent to Delete the Reasor Chemical Company Superfund Site (site) located in Castle Hayne, New Hanover County, North Carolina, from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). The EPA and the State of North Carolina, through the North Carolina Department of Environmental Quality (NCDEQ), have determined that all appropriate response actions under CERCLA have been completed. However, this deletion does not preclude future actions under Superfund.

DATES: Comments must be received by August 30, 2018.

ADDRESSES: Submit your comments, identified by Docket ID no. EPA-HQ-SFUND-2002-0001, by one of the following methods:

• http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

• Email: URQUHART-FOSTER.SAMANTHA@EPA.GOV.

• Mail: Samantha Urquhart-Foster, Remedial Project Manager, Remediation and Site Evaluation Branch, Superfund Division, U.S. Environmental Protection Agency, Region 4, 61 Forsyth Street SW, Atlanta, Georgia 30303-8960.

• Hand delivery: U.S. Environmental Protection Agency, Region 4, 61 Forsyth Street SW, Atlanta, Georgia 30303-8960. Such deliveries are only accepted during the Docket's normal hours of operation, and special arrangements should be made for deliveries of boxed information.

Instructions: Direct your comments to Docket ID no. EPA-HQ-SFUND-2002-0001. The http://www.regulations.gov website is an “anonymous access” system, which means EPA will not know your identity or contact information unless you provide it in the body of your comment. If you send an email comment directly to EPA without going through http://www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov or in hard copy at:

• U.S. EPA Record Center, attention: Ms. Tina Terrell, Atlanta Federal Center, 61 Forsyth Street SW, Atlanta, Georgia 30303-8960. Phone: 404-562-8835. Hours: 8 a.m.-4 p.m., Monday through Friday by appointment only; and

• New Hanover County Library, 201 Chestnut Street, Wilmington, North Carolina 28401. Phone: 910-798-6391. Hours: 9 a.m.-5 p.m., Monday through Saturday.

FOR FURTHER INFORMATION CONTACT: Samantha Urquhart-Foster, Remedial Project Manager, Remediation and Site Evaluation Branch, Superfund Division, U.S. Environmental Protection Agency, Region 4, 61 Forsyth Street SW, Atlanta, Georgia 30303-8960. Phone: 404-562-8760, email: URQUHART-FOSTER.SAMANTHA@EPA.GOV.

SUPPLEMENTARY INFORMATION:

Table of Contents

I. Introduction

II. NPL Deletion Criteria

III. Deletion Procedures

IV. Basis for Site Deletion

I. Introduction

EPA Region 4 announces its intent to delete the Reasor Chemical Company Superfund Site from the National Priorities List (NPL) and requests public comment on this proposed action. The NPL constitutes Appendix B of 40 CFR part 300 which is the National Oil and Hazardous Substances Pollution Contingency Plan (NCP), which EPA promulgated pursuant to section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 40 CFR 300.425(e)(3) of the NCP, sites deleted from the NPL remain eligible for Fund-financed remedial actions if future conditions warrant such actions.

EPA will accept comments on the proposal to delete this site for thirty (30) days after publication of this document in the Federal Register.

Section II of this document explains the criteria for deleting sites from the NPL. Section III discusses procedures that EPA is using for this action. Section IV discusses the Reasor Chemical Company Superfund Site and demonstrates how it meets the deletion criteria.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

III. Deletion Procedures

The following procedures apply to deletion of the Site:

(1) EPA consulted with the State before developing this Notice of Intent to Delete;

(2) EPA has provided the State 30 working days for review of this notice prior to publication of it today;

(3) In accordance with the criteria discussed above, EPA has determined that no further response is appropriate;

(4) The State of North Carolina, through the NCDEQ, has concurred with deletion of the Site from the NPL.

(5) Concurrently with the publication of this Notice of Intent to Delete in the Federal Register, a notice is being published in a major local newspaper, the Wilmington Star-News. The newspaper notice announces the 30-day public comment period concerning the Notice of Intent to Delete the site from the NPL.

(6) The EPA placed copies of documents supporting the proposed deletion in the deletion docket and made these items available for public inspection and copying at the Site information repositories identified above.

If comments are received within the 30-day public comment period on this document, EPA will evaluate and respond appropriately to the comments before making a final decision to delete. If necessary, EPA will prepare a Responsiveness Summary to address any significant public comments received. After the public comment period, if EPA determines it is still appropriate to delete the Site, the Regional Administrator will publish a final Notice of Deletion in the Federal Register. Public notices, public submissions and copies of the Responsiveness Summary, if prepared, will be made available to interested parties and in the site information repositories listed above.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Background and History

The Reasor Chemical Company Site (EPA ID: NCD986187094) is located at 5100 North College Road (Hwy. 132), in Castle Hayne, New Hanover County, North Carolina. Castle Hayne is approximately 13 miles north of Wilmington, NC. The site is an abandoned stump rendering facility, which operated from 1959 to 1972 under the name of Reasor Chemical Company. The site property consists of one parcel of 25.59 acres. A fire and possible explosion occurred on the property on April 7, 1972, which damaged and destroyed the remaining buildings and material on the site property. The property currently is unused, unoccupied, and covered with native brush and secondary growth forest.

The former Reasor Chemical Company reportedly produced turpentine, pine resin, pitch, tall oil, pine oil, camphor, pine tar, and charcoal from pine tree stumps. It is believed that the facility used various solvents to extract raw product from chipped stumps, distilling the extract into separate product fractions. The solvents used in the extraction process were likely stored on-site in 55-gallon drums, the remains of which were in a surface drum disposal area near the center of the property. It is thought that four of the five onsite ponds were used in the manufacturing process. Those four ponds contained sediments with elevated concentrations of volatile organic compounds (VOCs), semi-volatile organic compounds (SVOCs) including polycyclic aromatic hydrocarbons (PAHs), and inorganic compounds. An area thought to have been used to store scrap copper metal was also present, which had elevated concentrations of copper and lead.

EPA proposed listing the site on the NPL on September 13, 2001 (66 FR 47612), and finalized the listing on September 5, 2002 (67 FR 56757). The property is currently undeveloped. The Site is currently zoned industrial.

Remedial Investigation and Feasibility Study (RI/FS)

During 1996 through 2002, Roy F. Weston, Inc. (WESTON) performed the Remedial Investigation/Feasibility Study (RI/FS) for EPA. During 2000 through 2002, EPA Region 4's Science and Ecosystem Support Division (SESD) completed the Ecological Risk Assessment (ERA). Investigations at the site revealed the presence of metals, VOCs, and SVOCs above risk-based screening values.

The human health risk assessment identified risks for potential future on-site workers and residents. These risks were primarily associated with drinking shallow groundwater and ingestion of or dermal contact with soils. The ecological risk assessment indicated that risks were posed to ecological receptors from contact with or ingestion of surface water, soil, and sediment.

Selected Remedy

EPA's Record of Decision (ROD) was signed on September 26, 2002, and the North Carolina Department of Environment and Natural Resources, (now known as the North Carolina Department of Environmental Quality (NCDEQ)), concurred with the selected remedy. EPA revised the remedy in a ROD Amendment dated June 1, 2007. The amended selected remedy included the following:

• Soil and sediment: Excavation and off-site disposal, backfill the excavated soil areas and vegetate with native plant species, and return the former ponds to wetland habitats.

• Surface water: On-site treatment and disposal.

• Groundwater: Backfill the drum disposal area with an alkaline substance to raise the pH of shallow groundwater, perform annual monitoring of groundwater to determine if contaminants of concern (COCs) continue to be elevated, and attach a “Declaration of Perpetual Land Use Restrictions” to the property title that prohibits the use of shallow groundwater for any purpose.

The Remedial Action Objectives (RAOs) for the site were:

• Sediment: Prevent further migration of contaminants from sediment to groundwater and surface water above levels exceeding groundwater and surface water clean-up goals; eliminate exposure of ecological receptors to contaminated sediment; achieve ecological risk-based sediment clean-up goals for: Methyl ethyl ketone, toluene, (3 and/or 4)-methylphenol, total PAHs, and copper.

• Surface water: Prevent further migration of contaminants above clean-up goals from Ponds 1, 2, 3 and 4, to soil, groundwater and down-gradient surface water bodies; eliminate exposure to contaminated surface water above levels exceeding clean-up goals by aquatic receptors; achieve the North Carolina Surface Water Quality Standards (NCAC Title 15A, Chapter 2, Subchapter 2B.0100 and 2B.0200) in Ponds 1, 2, 3 and 4 for: Copper, lead, iron and zinc.

• Soil: Prevent further migration of contaminants from soil to groundwater and surface water above levels exceeding groundwater and surface water clean-up goals; eliminate unacceptable risk to human health and the environment; achieve the human health and ecological risk based clean-up goals for: Benzo(a)pyrene, benzo(b &/or k)fluoranthene, dibenzo(a,h) anthracene, antimony, copper and lead.

• Groundwater: Prevent human consumption of contaminated groundwater until risk-based standards for aluminum, and Safe Drinking Water Act's Maximum Contaminant Levels (MCLs) for beryllium, chromium and nickel, are attained.

Response Actions

The Remedial Design (RD) was completed by EPA between September 2002 and January 2004. EPA and the Potentially Responsible Parties (PRPs) entered a Consent Decree in which the PRPs agreed to conduct the Remedial Action (RA). The PRPs began the RA on June 4, 2007 utilizing the remedial actions outlined in the 2007 ROD Amendment. Apex Companies, LLC (Apex) was retained by the PRPs and performed all the of the RA work described below. The RA for soil, sediment and surface water was completed in July 2007 and the Preliminary Close-Out Report was issued in September 2007. The Interim Remedial Action and Final Remediation Report, Revision 3, was issued in August 2008.

Approximately 140,000 gallons of contaminated water was treated and discharged on site. Approximately 2,000 tons of contaminated soils and sediments were excavated and disposed of in off-site landfills. After excavation and confirmation sampling, the ponds were allowed to naturally refill with water and vegetate. The soil excavation areas were backfilled and allowed to naturally vegetate. Lime was applied in the area of monitoring wells MW-7S and MW-7D in order to increase the groundwater pH. Increasing the pH of groundwater is intended to lower concentrations of metals in the groundwater in this area. Institutional controls in the form of a Declaration of Perpetual Land Use Restriction were filed with the property deed in 2008.

Annual sampling of groundwater monitoring wells MW-7S and MW-7D was performed when appropriate pH and turbidity levels permitted. Collection of samples for laboratory analysis was only required if the pH was between 7.2 and 8.5 using best efforts to reduce turbidity. Annual sampling events were attempted on February 11, 2008, January 28, 2009, December 7, 2009, and November 2, 2010. However, samples were not collected during any of the annual sampling events due to pH conditions recorded below 7.2 units.

Apex returned to the site on May 18, 2011, to complete a groundwater sampling event in accordance with the Amended ROD, which stated that regardless of the pH levels, samples were to be collected within five years after initiation of remedial action. The sampling event was conducted with the intent that EPA could determine if the clean-up goals had been achieved.

Based on the groundwater quality results from the May 18, 2011, sampling event, remedial actions had been successful in achieving the cleanup goals for beryllium and nickel in groundwater. However, elevated concentrations of aluminum and chromium were still present above the cleanup goals. Based on past groundwater sampling results at the site, there is a direct correlation between low sample pH, high sample turbidity, and elevated metal concentrations. Apex returned to the site on November 12, 2012, to sample for metals in MW-7D and MW-7S, collecting both an unfiltered and filtered sample to address turbidity. Due to a malfunctioning pump at MW-7S, only MW-7D could be sampled on November 12, 2012. Elevated concentrations of aluminum and chromium were still present above the Amended ROD RAOs established for the site in the unfiltered sample; however, metal concentrations were below Amended ROD RAOs established for the site in the filtered sample.

Apex conducted groundwater assessment activities at the site in December 2015 and January 2016 to fulfill the requirements of the Amended ROD. The activities included the advancement of two groundwater monitoring wells installed immediately adjacent to MW-7D and MW-7S, in addition to the collection and analysis of groundwater samples, both filtered and unfiltered.

Replacement wells MW-7SR and MW-7DR were installed to address elevated turbidity levels. It was suspected that there could have been some damage to the existing well screens which resulted in the influx of sediment. Quarterly sampling was conducted at MW-7SR and MW-7DR. Results indicated that the COCs are not present at concentration at or above applicable Amended ROD clean up goals. Based on the cancer slope factor and oral reference dose for hexavalent chromium being more stringent, chromium was speciated during the January 2016 sampling event and was not detected above laboratory detection limits in either MW-7SR or MW-7DR.

It was determined that hexavalent chromium is not a COC and concentrations of total chromium are also below the Amended ROD clean up goals. Apex completed the Final Remedial Action Report Addendum in November 2017.

As prescribed in the 2007 Amended ROD, institutional controls (ICs) were implemented in September 2008 with the placement of a Declaration of Perpetual Land Use Restrictions (DPLUR) on the property deed. The DPLUR requires annual notification to NCDEQ and EPA confirming that the DPLUR is still recorded in the Office of the New Hanover County Register of Deeds and that activities and conditions at the site remain in compliance with the land use restrictions. The land use restrictions in the DPLUR state that groundwater from the surficial aquifer underlying the site may not be used for any purpose. Groundwater located beneath the confining layer shall not be used as a source of potable water. Any groundwater well or other device for access to groundwater for any purpose other than monitoring groundwater quality must include an isolation seal between the surficial aquifer and the Peedee Formation aquifer located below. The installation of groundwater wells or other devices for access to groundwater for any purpose other than monitoring groundwater quality requires prior approval by NCDEQ, or its successor in function. The owner(s) of the property must provide written notification to EPA prior to seeking approval from NCDEQ for the installation of groundwater wells.

Cleanup Levels

Cleanup goals were established to achieve a 10 ⁻⁵ (one in 100,000) excess carcinogenic risk level for potential future resident children (most conservative risk category evaluated) and/or a hazard quotient (HQ) of 1 for potential resident children or ecological receptors.

Surface Water: Although the treatment system did not reduce contaminant concentrations in surface water to below cleanup goals during its operation in 2007, the RAOs were achieved for the following reasons:

• Migration of and aquatic receptor exposure to contaminated surface water was halted by

○ treating all surface water in ponds and land applying treated water;

○ excavating contaminated soils to residential cleanup standards;

○ excavating contaminated sediments to ecological cleanup goals and placing 18 to 60 inches of non-contaminated soil over the base of the excavated ponds; and

○ allowing the ponds to refill naturally.

Soil: Cleanup goals specified in the 2007 ROD Amendment for soil were attained.

All confirmation sample results from the soil excavation areas were below the ROD-specified cleanup goals.

Sediment: Ten samples were collected and analyzed to determine if cleanup goals were met in the four sediment excavation areas. Six confirmation samples were collected from the four excavated ponds in June 2007. One sample was a duplicate of another sample in Pond 3. The duplicate sample result was within the same order of magnitude as the sample from which it was split. Because the laboratory detection limits for (3 and/or 4)-methylphenol and methyl ethyl ketone (also known as butanone) were higher than the cleanup goals, the four ponds were resampled in August 2007 and analyzed for these two COCs.

Cleanup goals for toluene and copper were attained in all four ponds. The cleanup goal for methyl ethyl ketone (also known as 2-butanone) was attained in ponds 1-3, and possibly pond 4. The original confirmation sample collected in June 2007 from pond 4 had a concentration less than the laboratory reporting limit of 100 micrograms per kilogram (µg/kg), which is less than the cleanup goal established in the 2007 ROD Amendment. However, the sample collected in pond 4 in August 2007 did not have a detectable concentration of methyl ethyl ketone but the laboratory detection limit (268 µg/kg) was greater than the cleanup goal of 137 µg/kg. Methyl ethyl ketone was not detected in any of the ponds. All ponds had at least one sample which had a laboratory detection limit that was lower than the cleanup goal.

All samples collected from the excavated ponds had concentrations of (3 and/or 4)-methylphenol above cleanup goals or the laboratory detection limit was greater than the cleanup goal. The low-level presence of (3 and/or 4)-methylphenol in the soil does not present a significant risk to human health or the environment, and further sampling and assessment is not needed for the following reasons:

• Methylphenol is a naturally occurring substance. Cresols (methylphenols) are found in many foods and in wood in this region of North Carolina. The contaminant presence at low-levels may be naturally occurring and not site-related.

• The impacted soil was removed from the lagoons and capped with 18 to 60 inches of clean fill. Therefore, the surface water within the lagoons is not in direct contact with impacted soil.

• The ROD clean-up goal of 50 µg/kg for (3 and/or 4)-methlyphenol was established based on ecological risk, not human health risk. Any residual contamination is at depths greater than 18 inches, and therefore there is no exposure route for ecological receptors. There is no obvious or adverse impact to the ecology within the lagoons as observed through the thriving aquatic flora and fauna present within lagoons over the last 11 years, since the time the lagoons were remediated in 2007.

• The concentrations present in the soil are below the EPA Regional Screening Levels (RSLs) for residential soils for methylphenol of 3,200 milligrams per kilogram (mg/kg), which is protective of human health.

The RAOs were achieved for the following reasons:

• All confirmatory samples obtained from ponds 1-4 were collected from each basin's clay liner.

• Each basin was subsequently capped with 18 inches to 60 inches of clean soil backfill.

• The RAs performed removed the contaminated ecological exposure medium, sediment, and subsequently capped the underlying clay liner with clean soil, thereby eliminating the ecological exposure pathway for sediments in the ponds and exposure to remaining residual levels in the clay layer, and thus any associated risk.

Soil or sediment samples have not been collected since the RA. For the soil excavation areas, restoration included backfilling with soil, grading the areas to provide drainage away from the areas, revegetation with native rye grass and spreading of wood chips over the area for erosion control. Pond restoration consisted of backfilling a portion of the ponds, covering the banks of the excavation and surrounding disturbed areas with straw matting for erosion control, and seeding with native rye grass. During the final site inspection conducted in April 2017, it was observed that the excavation areas are now restored with native brush and secondary growth forest.

Groundwater: No COCs were detected at concentrations above the Amended ROD clean up goals in either sample MW-7DR or MW-7SR during 2016 quarterly groundwater sampling. The detected concentrations of these compounds are generally significantly less than the concentrations previously identified in groundwater samples collected at the Site in May 2011 and November 2012. Aluminum, beryllium, chromium, and nickel were either detected at estimated concentrations that are below the applicable criteria, or were not detected above laboratory detections limits in both the filtered and unfiltered samples.

Due to the low turbidity of the samples, the concentrations reported for both filtered and unfiltered samples were very similar. In addition to the reductions in the observed concentrations of the COCs, the pH values were also higher than historic values. The pH was measured at 3.81 in MW-7SR versus historic values ranging from 2.31 to 3.55 in MW-7S. The pH of the sample collected at MW-7DR was 6.47 versus historic values measured as low as 3.21.

In addition, pH values measured in the newly installed wells are similar to other sites in the Castle Hayne area. Based on the findings of the January 2016 sampling event, Apex conducted three additional quarterly sampling events in April, July, and October 2016 to obtain sufficient data for site closure. During these quarterly sampling events, since the January 2016 sampling results demonstrated that hexavalent chromium was not a COC, the samples were only analyzed for total chromium.

The monitoring data demonstrates that remedial action objectives and cleanup levels specified in the 2007 ROD Amendment are achieved. There are no additional monitoring or Operations and Maintenance of the remedy required.

Five-Year Reviews

The purpose of a five-year review (FYR) is to evaluate the implementation and performance of a remedy to determine if the remedy is and will continue to be protective of human health and the environment. In addition, FYR reports identify issues found during the review, if any, and document recommendations to address them. EPA completed two policy FYRs for the site in September 2012 and September 2017. The 2017 FYR determined that the remedy was protective of human health and the environment, and there were no issues or recommendations. The 2017 FYR concluded that no further FYRs are planned for the site because all impacted media have reached Unlimited Use/Unrestricted Exposure (UU/UE) categorization.

Community Involvement

EPA has communicated with the public through Fact Sheets, meetings, internet postings, newspaper ads, and answering email and phone inquiries. Current Site information can be found at https://cumulis.epa.gov/supercpad/cursites/csitinfo.cfm?id=0405590.

Public participation activities have been satisfied as required in CERCLA Section 113(k), 42 U.S.C. 9613(k) and CERCLA Section 117, 42 U.S.C. 9617. Documents in the deletion docket, which the EPA relied on for recommendation of the deletion from the NPL, are available to the public in the information repositories identified above.

Determination That the Site Meets the Criteria for Deletion in the NCP

Region 4 has followed the procedures required by 40 CFR 300.425(e) as mentioned above and the implemented remedy achieves the degree of cleanup specified in the ROD for all pathways of exposure. The information presented in the Final Close-Out Report verifies that the site has achieved the ROD Amendment's RAOs, and that all cleanup actions specified in the ROD Amendment were implemented. All selected remedial action objectives and associated cleanup levels are consistent with agency policy and guidance. This site meets all the site completion requirements as specified in Office of Solid Waste and Emergency Response (OSWER) Directive 9320.22, Close-Out Procedures for National Priorities List Sites. No further Superfund response is needed to protect human health and the environment.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Dated: July 17, 2018.
Onis “Trey” Glenn, III,
Regional Administrator, Region 4.

[FR Doc. 2018-16244 Filed 7-30-18; 8:45 am]

BILLING CODE 6560-50-P